NATIONAL AERONAUTICS AND SPACE ADMINISTRATION

[Notice (06-064)]

NASA Advisory Council; Science Committee; Planetary Protection Subcommittee; Meeting

AGENCY: National Aeronautics and Space Administration.

ACTION: Notice of meeting.

SUMMARY: The National Aeronautics and Space Administration (NASA) announces a meeting of the Planetary Protection Subcommittee of the NASA Advisory Council (NAC). This Subcommittee reports to the Science Committee of the NAC. The meeting will be held for the purpose of soliciting from the scientific community and other persons scientific and technical information relevant to program planning.

DATES: Thursday, September 28, 2006, 8:30 a.m. to 5:30 p.m., and Friday, September 29, 8:30 a.m. to 5 p.m. Eastern Daylight Time.

ADDRESSES: Marriott Georgetown University Conference Center, 3800 Reservoir Road, NW., Washington, DC 20057.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

• Status of NASA Planetary Exploration Activities/Implementations.

• The COSPAR Assembly in Beijing.

• Special Regions Concept to Mars Planetary Protection Requirements.

• Protection Requirements for Humans on Mars and Lunar Opportunities for Preliminary Preparation.

• Preliminary Protection Future Planning, Responsibilities, and International Cooperation.

The meeting will be open to the public up to the seating capacity of the room. Findings and recommendations developed by the Subcommittee during its meeting will be submitted to the Science Committee of the NAC.

It is imperative that the meeting be held on these dates to accommodate the scheduling priorities of the key participants. Attendees will be requested to sign a visitor's register.

Dated: August 30, 2006.
P. Diane Rausch,
Advisory Committee Management Officer, National Aeronautics and Space Administration.

[FR Doc. E6-14841 Filed 9-6-06; 8:45 am]

BILLING CODE 7510-13-P